DEPARTMENT OF TRANSPORTAION

Office of the Secretary

[Docket No. DOT-OST-2024-0003]

Privacy Act of 1974; System of Records

AGENCY: Office of the Departmental Chief Information Officer, Office of the Secretary of Transportation (DOT).

ACTION: Notice of a modified system of records.

SUMMARY: In accordance with the Privacy Act of 1974, the Department of Transportation (DOT), Office of the Secretary (OST), proposes to rename, update and reissue an existing system of records notice currently titled “DOT/All 11, Integrated Personnel and Payroll System (IPPS).” The name of this system of records notice will be changed to “DOT/ALL 11, Consolidated Automated System for Time and Labor Entry (CASTLE).” The modified system of records notice (hereafter referred to as “Notice”) uses records in this system for fiscal operations related to payroll, attendance, leave, insurance, taxes, retirement, budget, and cost accounting programs. This system is also used to control and facilitate payment of salaries to DOT employees.

DATES: Submit comments on or before December 18, 2024. The Department may publish an amended Systems of Records Notice considering any comments received. This modified system will be effective immediately upon publication. The routine uses will be effective December 18, 2024.

ADDRESSES: You may submit comments, identified by docket number DOT-OST-2024-0003 by one of the following methods:

• Federal e-Rulemaking Portal: https://www.regulations.gov. Follow the instructions for submitting comments.

• Mail: Department of Transportation Docket Management, Room W12-140, 1200 New Jersey Ave. SE, Washington, DC 20590.

• Hand Delivery or Courier: West Building Ground Floor, Room W12-140, 1200 New Jersey Ave. SE, between 9 a.m. and 5 p.m. ET, Monday through Friday, except Federal holidays.

• Instructions: You must include the agency name and docket number DOT-OST-2024-0003.

• Instructions: You must include the agency name and docket number DOT-OST-2024-0003. All comments received will be posted without change to https://www.regulations.gov, including any personal information provided. You may review the Department of Transportation's complete Privacy Act statement in the Federal Register published on April 11, 2000 (65 FR 19477-78).

Privacy Act: Anyone is able to search the electronic form of all comments received in any of our dockets by the name of the individual submitting the comment (or signing the comment, if submitted on behalf of an association, business, labor union, etc.).

Docket: For access to the docket to read background documents or comments received, go to https://www.regulations.gov or to the street address listed above. Follow the online instructions for accessing the docket.

FOR FURTHER INFORMATION CONTACT: For questions, please contact Karyn Gorman, Departmental Chief Privacy Officer, Privacy Office, Department of Transportation, Washington, DC 20590; email: privacy@dot.gov; or 202-366-3140.

SUPPLEMENTARY INFORMATION:

Notice Updates

This Notice includes both substantive changes and non-substantive changes to the previously published Notice. The substantive changes have been made to the system name, system location, system manager, authority for maintenance of the system, purpose of the system, categories of individuals covered by the system, categories of records in the system, routine uses maintained in the system, policies and practices for storage of record, policies and practices for retrieval, retention and disposal of the records in the system, and administrative, technical, and physical safeguards. Non-substantive changes have been made to record access procedures and contesting record procedures as well as revisions to align with the requirements of Office of Management and Budget Memoranda (OMB) A-108 and to ensure consistency with other Notices issued by the Department of Transportation.

Background

In accordance with the Privacy Act of 1974, the Department of Transportation proposes to modify and re-issue an existing system of records titled “DOT/ALL 11, Integrated Personal and Payroll System, (IPPS)” and change the name to “Consolidated Automated System for Time and Labor Entry, (CASTLE).” This system of records covers records collected and maintained for the purposes of fiscal operations related to payroll, attendance, leave, insurance, taxes, retirement, budget, and cost accounting programs. This system is also used to control and facilitate payment of salaries to DOT employees. The following substantive changes have been made to the Notice:

1. System Name: This Notice updates the system name to “Consolidated Automated System for Time and Labor Entry, (CASTLE)” from the previous system name of “DOT/ALL 11, Integrated Personal and Payroll System, (IPPS)”. The update to the system name is to better align with the collection of personally identifiable information in the system and the purpose of the collection. This system is also used to facilitate payment of salaries of DOT employees.

2. System Location: This Notice updates the system locations to notify the public the location maintaining the system is changed for all of DOT and its Operating Administrations. The previous SORN had an outdated address and information listed as U.S. DOT, OST, 400 7th Street SW, Washington DC 20590 and additional information that no longer applies.

3. System Manager: This Notice updates the system manager name and address to reflect the change in system owner and address. The previous address listed was U.S. DOT, 400 7th Street SW, Washington, DC 20590.

4. Authority: This Notice updates the authorities of Maintenance of the System to expand and include relevant regulations to align with the collection of personally identifiable information and data in the system.

5. Purpose: This Notice updates the purpose to better clarify the how records are used in the system and for what purpose.

6. Categories of Individuals: This Notice updates categories of individuals to clearly define and identify who is covered by this system of records.

7. Categories of Records: This Notice updates categories of records to better describe the type of records maintained in the system to include employee biographical and employment information, salary and benefits information, timekeeping information.

8. Routine Uses: This Notice updates routine uses to include system specific routine uses that allows sharing between the DOT and the Department of Interior for payroll purposes. This notice also includes the Department of Transportation's general routine uses applicable to this system as they were previously only incorporated by reference. OMB Circular A-108 recommends that agencies include all routine uses in one notice rather than incorporating general routine uses by reference.

9. Records Storage: This Notice updates policies and practices for the storage of records to inform the public that records are no longer stored on magnetic tape or disks, microfiche, and paper and now are digitized and input records are maintained on electronic storage media.

10. Records Retrieval: This Notice updates the policies and practices for the retrieval of records to inform the public records may be retrieved by a combination of Social Security Number (SSN), employee ID number, organization code or home address.

11. Retention and Disposal: This Notice updates the policies and practices for the retrieval of records to reflect updated NARA record schedules. The previous NARA record schedule no longer applies to the records in the system.

12. Administrative, Technical, and Physical Safeguards: Updated to account for the agency's transition from paper to electronic recordkeeping and the Information Technology measures that are in place to protect the records.

The following non-substantive changes have been made to the Notice:

13. Record Access: This Notice updates the record access procedures to reflect signatures on signed requests for records must either be notarized or accompanied by a statement made under penalty of perjury in compliance with 28 U.S.C. 1746.

Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Department of Transportation, DOT/ALL 11, Consolidated Automated System for Time and Labor Entry (CASTLE).

SECURITY CLASSIFICATION:

Sensitive, Unclassified.

SYSTEM LOCATION:

Mike Monroney Aeronautical Center, 6500 South MacArthur Blvd., Oklahoma City, OK 73169.

SYSTEM MANAGER(S):

Director of Financial Management, OST-B30, 1200 New Jersey Avenue SE, Washington, DC 20590.

AUTHORITY FOR MAINTENANCE OF THE SYSTEM:

49 U.S.C. 322, 5 U.S.C. 5101, 5 U.S.C. 3512; and E.O. 9397 (SSN), as amended.

PURPOSE(S) OF THE SYSTEM:

Records in this system are used for fiscal operations related to payroll, attendance, leave, insurance, taxes, retirement, budget, telework, remote work, employee offboarding and cost accounting programs. This system is also used to facilitate payment of salaries of DOT employees.

CATEGORIES OF INDIVIDUALS COVERED BY THE SYSTEM:

All current and former U.S. DOT Federal employees and DOT components. This system may include limited information regarding employee family members, emergency contacts, and medical provider contact information.

CATEGORIES OF RECORDS IN THE SYSTEM:

Employee Biographical and Employment Information: Employee name, other names used, union and association affiliation, Social Security Number (SSN), records related to position, occupation, duty location, medical information, disability information, personal and/or work telephone number, personal and/or work email address, home mailing address, involuntary debt (garnishments or child support payments), employee common identifier (ECI), organization code, user identification and any other employment information. Family member information, emergency contact, and medical provider contact information. Salary and Benefits Information: Salary data, retirement fund data, retirement plan, tax data, deductions, health benefit enrollment code and deduction, union dues, flexible spending account deduction, Thrift Savings Plan deductions, pay plan, and award amount. Timekeeping Information: Time and attendance records and leave records. This system may also contain correspondence, documents and other relevant information required to administer payroll, leave, and related functions.

RECORD SOURCE CATEGORIES:

Data are collected from individual employees, time and attendance clerks, supervisors, official personnel records, personal financial statements, correspondence with the debtor, records relating to hearings on the debt, and from the Departmental Accounting and Financial Information system of records.

ROUTINE USES OF RECORDS MAINTAINED IN THE SYSTEM, INCLUDING CATEGORIES OF USERS AND PURPOSES OF SUCH USES:

In addition to those disclosures generally permitted under 5 U.S.C. 552a(b) of the Privacy Act, all or portion of the records or information contained in this system may be disclosed outside of DOT as a routine use pursuant to 5 U.S.C. 552a(b)(3) as follows:

System Specific Routine Uses:

1. To the Department of Interior Federal Personnel and Payroll System (DOI FPPS) for the purpose of facilitating employee wage payments.

Departmental Routine Uses:

2. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

3. A record from this system of records may be disclosed, as a routine use, to a Federal, State, or local agency maintaining civil, criminal, or other relevant enforcement information or other pertinent information, such as current licenses, if necessary to obtain information relevant to a DOT decision concerning the hiring or retention of an employee and/or the issuance of a security clearance.

4a. Routine Use for Disclosure for Use in Litigation. It shall be a routine use of the records in this system of records to disclose them to the Department of Justice or other Federal agency conducting litigation when—

(a) DOT, or any agency thereof, or

(b) Any employee of DOT or any agency thereof, in his/her official capacity, or

(c) Any employee of DOT or any agency thereof, in his/her individual capacity where the Department of Justice has agreed to represent the employee, or

(d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

4b. Routine Use for Agency Disclosure in Other Proceedings. It shall be a routine use of records in this system to disclose them in proceedings before any court or adjudicative or administrative body before which DOT or any agency thereof, appears, when—

(a) DOT, or any agency thereof, or

(b) Any employee of DOT or any agency thereof in his/her official capacity, or

(c) Any employee of DOT or any agency in his/her individual capacity where DOT has agreed to represent the employee, or

(d) The United States or any agency thereof, where DOT determines that the proceeding is likely to affect the United States, is a party to the proceeding or has an interest in such proceeding, and DOT determines that use of such records is relevant and necessary in the proceeding, provided, however, that in each case, DOT determines that disclosure of the records in the proceeding is a use of the information contained in the records that is compatible with the purpose for which the records were collected.

5. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

6. One or more records from a system of records may be disclosed routinely to the National Archives and Records Administration in records management inspections being conducted under the authority of 44 U.S.C. 2904 and 2906.

7a. To appropriate agencies, entities, and persons when (1) DOT suspects or has confirmed that there has been a breach of the system of records; (2) DOT has determined that as a result of the suspected or confirmed breach there is a risk of harm to individuals, DOT (including its information systems, programs, and operations), the Federal (3) the disclosure made to such agencies, entities, and persons is reasonably necessary to assist in connection with DOT's efforts to respond to the suspected or confirmed breach or to prevent, minimize, or remedy such harm.

7b. To another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach. resolving disputes between FOIA requesters and Federal agencies and reviewing agencies' policies, procedures, and compliance in order to recommend policy changes to Congress and the President.

8. DOT may disclose records from this system, as a routine use, to an agency, organization, or individual for the purpose of performing audit or oversight operations related to this system of records, but only such records as are necessary and relevant to the audit or oversight activity. This routine use does not apply to intra-agency sharing authorized under Section (b)(1) of the Privacy Act.

9. DOT may disclose from this system, as a routine use, records consisting of, or relating to, terrorism information (6 U.S.C. 485(a)(5)), homeland security information (6 U.S.C. 482(f)(1)), or Law enforcement information (Guideline 2 Report attached to White House Memorandum, “Information Sharing Environment, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

10. Disclosure pursuant to 5 U.S.C. 552a (b)(12). Disclosures may be made from this system to consumer reporting agencies as defined in the Fair Credit Reporting Act (15 U.S.C. 1681a(f)) or the Federal Claims Act of 1966 (31 U.S.C. 3701(a)(3)).

POLICIES AND PRACTICES FOR STORAGE OF RECORDS:

Pre-existing paper and microfiche records were digitized. Input records are maintained digitally on electronic storage media in accordance with the safeguards below.

POLICIES AND PRACTICES FOR RETRIEVAL OF RECORDS:

Records can be retrieved by name, SSN, employee IDs, organizational code, home address, or a combination of the information listed in the categories of records.

POLICIES AND PRACTICES FOR RETENTION AND DISPOSAL OF RECORDS:

Records in the system are maintained in accordance with the following NARA's records retention and schedules: General Records Schedule (GRS) 2.3, Employee Relations Records, Item 10, Employee relations programs' administrative records, DAA-GRS-2018-0002-0001, Temporary. Destroy when 3 years old, but longer retention is authorized if required for business use; Item 40, Telework/alternate worksite program, DAA GRS-2018-0002-0004, Temporary. Destroy when 3 years old, but longer retention is authorized if required for business use. GRS 2.4, Employee Compensation and Benefits Records, Item 10, Records used to calculate payroll, arrange paycheck deposit, and change previously issued paychecks, DAA-2018-0002-0001: Temporary. Destroy when 3 years old, but longer retention is authorized if required for business use. Item 30, Time and attendance records, DAAGRS-2019-0004-0002, Temporary, destroy when 3 years old, but longer retention is authorized if required for business use. Item 40, Agency payroll record for each pay period, DAA-GRS-2016-00015-0004, Destroy when 56 years old. GRS 4.2, Information Access, and Protection Records, Item 130, Personally identifiable information extracts, DAA-GRS-2013-0007-0012, Temporary. Destroy when 90 days old or no longer needed pursuant to supervisory authorization, whichever is appropriate.

ADMINISTRATIVE, TECHNICAL, AND PHYSICAL SAFEGUARDS:

Administrative Procedures: Access to the records is limited to person(s) responsible for servicing the records in performance of their official duties, who are properly screened, trained on policies and procedures, and cleared for need to-know. Personnel who access the system and its data must take security awareness training and sign a Rules of Behavior initially (prior to access) and, at least, annually thereafter. Technical: Regular monitoring of users and the system are implemented to ensure only authorized personnel have access to information in the system. Strict controls are in place to minimize the compromise of stored or accessed in the system. Physical: The system and the data are housed in secure data center.

RECORD ACCESS PROCEDURES:

Individuals seeking access to records about themselves contained in this system should address inquiries to the System Manager at the address identified in “System Manager and Address” above. Request must be in writing, include SORN ID and name of this system of records notice, information on the Operating Administration-Department, specific date range and specific type of records seeking. Request must be signed by the requester, must be notarized as required by 28 U.S.C. 1746 in the following format: If executed without the United States: “I declare (or certify, verify, or state) under penalty of perjury under the laws of the United States of America that the foregoing is true and correct. Executed on (date). (Signature)”. If executed within the United States, its territories, possessions, or commonwealths: “I declare (or certify, verify, or state) under penalty of perjury that the foregoing is true and correct. Executed on (date). (Signature)”.

CONTESTING RECORD PROCEDURES:

See “Records Access Procedures” above.

NOTIFICATION PROCEDURES:

See “Records Access Procedures” above.

EXEMPTIONS PROMULGATED FOR THE SYSTEM:

None.

HISTORY:

A full notice of this system of records, DOT/ALL 11, Integrated Personnel Payroll System, was published in the Federal Register on November 7, 2008 (73 FR 66285), April 11, 2000 (65 FR 19845).

Issued in Washington, DC.
Karyn Gorman,
Chief Privacy Officer.

[FR Doc. 2024-26743 Filed 11-15-24; 8:45 am]

BILLING CODE 4910-9X-P